NEIGHBORHOOD REINVESTMENT CORPORATION

Finance, Budget & Program Committee Meeting of the Board of Directors Meeting; Sunshine Act

TIME & DATE: 2:00 p.m., Monday, March 23, 2015.

PLACE: NeighborWorks America—Gramlich Boardroom, 999 North Capitol Street NE., Washington, DC 20002.

STATUS: Open (with the exception of Executive Session).

CONTACT PERSON: Jeffrey Bryson, General Counsel/Secretary, (202) 760-4101; jbryson@nw.org.

AGENDA:

I. CALL TO ORDER

II. Executive Session: Management Update

III. Audio Visual Contract Decision

IV. Training Tool Restart

V. Sustainable Homeownership

VI. FY16 Federal Budget

VII. Management Updates

VIII. Adjournment

Jeffrey T. Bryson,
EVP & General Counsel/Corporate Secretary.

[FR Doc. 2015-06281 Filed 3-16-15; 11:15 am]

BILLING CODE 7570-02-P